DEPARTMENT OF AGRICULTURE

Farm Service Agency

National Drought Council

AGENCY: Farm Service Agency, USDA.

ACTION: Notice of interim meeting.

SUMMARY: The National Drought Policy Commission recommended that a National Drought Council (Council) be established to coordinate activities between and among Federal Agencies, States, local governments, tribes and others. The Council was established through a Memorandum of Understanding (MOU). The first meeting of the Council will be held November 9, 2000. All meetings are open to the public; however, seating is limited and available on a first-come basis.

DATES: The Council will meet on November 9, 2000, from 9:00 a.m. to 11:30 a.m. in Room 221-A, Jamie L. Whitten Building, 12th and Jefferson Drive, SW, Washington, D.C. and from 12:30 to 3:30 p.m. in Room 4960-S of the United States Department of Agriculture South Building at 1400 Independence Avenue, SW, Washington, D.C. All times noted are Eastern Standard Time. The first part of the meeting will be devoted to the organization of the Council. The remainder of the meeting will be dedicated to establishing a work plan and other Council business.

FOR FURTHER INFORMATION CONTACT: Leona Dittus, Executive Director, Interim National Drought Council, United States Department of Agriculture (USDA), 1400 Independence Avenue, SW, Room 6701-S, Stop 0501, Washington, D.C., 20250-0501 or telephone (202) 720-3168; FAX (202) 720-9688; internet leona.dittus@usda.gov.

SUPPLEMENTARY INFORMATION: The purpose of the MOU is to establish a more comprehensive, integrated, coordinated approach toward reducing the impacts of drought through better preparedness, monitoring and prediction, risk management, and response to drought emergencies in the United States. The Council will encourage cooperation and coordination between and among Federal, State, local, and tribal governments and others, relative to preparation for and response to serious drought emergencies. The Council is not a source of consensus advice and therefore is not subject to the Federal Advisory Committee Act. Activities of the Council include providing coordination to: (a) resolve drought related issues, (b) exchange information about lessons learned, and (c) improve public awareness of the need for drought planning and mitigation measures. The Council will be co-chaired by the Secretary of Agriculture or his designee, and a non-Federal co-chair shall be selected from among the members who are not Federal officers or employees. Administrative staff support essential to the execution of the Council's responsibilities shall be provided by USDA. The Council will continue in effect for 5 years or until Congress establishes a permanent National Drought Council.

If special accommodations are required, please contact Leona Dittus, at the address specified above, by COB November 7, 2000.

Signed at Washington, DC on October 26, 2000.
George Arredondo,
Administrator, Farm Service Agency.

[FR Doc. 00-27988 Filed 10-31-00; 8:45 am]

BILLING CODE 3410-05-P